DEPARTMENT OF VETERANS AFFAIRS

[OMB Control No. 2900-New (VA Form 22-0830)]

Proposed Information Collection (Agreement for Release of VA Education Information to Third Party) Activity: Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed new collection and allow 60 days for public comment in response to this notice. This notice solicits comments on information needed to release a claimant's education information to a third party.

DATES: Written comments and recommendations on the proposed collection of information should be received on or before August 4, 2008.

ADDRESSES: Submit written comments on the collection of information through www.Regulations.gov or to Nancy J. Kessinger, Veterans Benefits Administration (20M35), Department of Veterans Affairs, 810 Vermont Avenue, NW., Washington, DC 20420 or e-mail to nancy.kessinger@va.gov. Please refer to “OMB Control No. 2900-New (VA Form 22-0830)” in any correspondence. During the comment period, comments may be viewed online through the Federal Docket Management System (FDMS) at http://www.Regulations.gov.

FOR FURTHER INFORMATION CONTACT: Nancy J. Kessinger at (202) 461-9769 or FAX (202) 275-5947.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Agreement for Release of VA Education Information to Third Party, VA Form 22-0830.

OMB Control Number: 2900-New (VA Form 22-0830).

Type of Review: New collection.

Abstract: Claimants on active duty and overseas complete VA Form 22-0830 to authorize VA to release his or her education benefits information to a third party calling on their behalf. Without the claimant's written consent VA cannot divulge any information, such as the status of a claim, rates of payment or date of payments to individuals calling on behalf of the claimant.

Affected Public: Individuals or households.

Estimated Annual Burden: 11,000 hours.

Estimated Average Burden per Respondent: 5 minutes.

Frequency of Response: One time.

Estimated Number of Respondents: 132,000.

Dated: May 23, 2008.
By direction of the Secretary.
Denise McLamb,
Program Analyst, Records Management Service.

[FR Doc. E8-12314 Filed 6-2-08; 8:45 am]

BILLING CODE 8320-01-P